DEPARTMENT OF HEALTH AND HUMAN SERVICES

Office of Refugee Resettlement

Final Notice of Allocations to States of FY 2002 Funds for Refugee Social Services

AGENCY: Office of Refugee Resettlement (ORR), ACF, HHS.

ACTION: Final notice of allocations to States of FY 2002 funds for refugee social services.

SUMMARY: This notice establishes the allocations to States of FY 2002 funds for social services under the Refugee Resettlement Program (RRP).

This notice includes $11.5 million in two set-aside allocations to: Support programs to promote healthy families through community-based organizations; and provide planned upgrading of employment, employment retraining, and subsidized employment tied to a labor market need leading to an offer of unsubsidized employment.

DATES: Effective date is July 8, 2002.

FOR FURTHER INFORMATION CONTACT: Barbara R. Chesnik, Division of Refugee Self-Sufficiency, telephone: (202) 401-4558, email: bchesnik@acf.dhhs.gov.

SUPPLEMENTARY INFORMATION:

I. Amounts For Allocation

The Office of Refugee Resettlement (ORR) has available $158,600,000 in FY 2002 refugee social service funds as part of the FY 2002 appropriation for the Department of Health and Human Services (Departments of Labor, Health and Human Services, and Education, and Related Agencies Appropriations Act, 2002, Public Law 107-116).

The FY 2002 House Appropriations Committee Report (H.R. Rept. No. 107-229) reads as follows with respect to social services funds:

The bill provides $158,621,000 for social services, $15,000,000 more than the fiscal year 2001 appropriation and the budget request. Funds are distributed by formula as well as through the discretionary grant making process for special projects. The bill includes $15,000,000 to increase educational support to schools with a significant proportion of refugee children, consistent with previous support to schools heavily impacted by large concentration of refugees.

The Committee agrees that $19,000,000 is available for assistance to serve communities affected by the Cuban and Haitian entrants and refugees whose arrivals in recent years have increased. The Committee has set aside $26,000,000 for increased support to communities with large concentrations of refugees whose cultural differences make assimilation especially difficult justifying a more intense level and longer duration of Federal assistance. Finally, the Committee has set aside $14,000,000 to address the needs of refugees and communities impacted by recent changes in Federal assistance programs relating to welfare reform. The Committee urges ORR to assist refugees at risk of losing, or who have lost, benefits including SSI, TANF and Medicaid, in obtaining citizenship.

The FY 2002 Conference Report on Appropriations (H.R. Conf. 107-342) reads as follows concerning social services:

The conference agreement appropriates $460,203,000, instead of $460,224,000 as proposed by the House and $445,224,000 proposed by the Senate. Within this amount, for Social Services, the agreement provides $158,600,000 instead of $156,621,000 as proposed by the House and $143,621,000 as proposed by the Senate.

The conferees specify that funds for section 414 of the Immigration and Nationality Act shall be available for three fiscal years, as proposed by the House.

The conference agreement includes $15,000,000 that is to be used under social services to increase educational support to schools with a significant proportion of refugee children, consistent with language contained in the House report.

The agreement also includes $19,000,000 for increased support to communities with large concentrations of refugees whose cultural differences make assimilation especially difficult justifying a more intense level and longer duration of Federal assistance, consistent with language contained in the House report.

ORR will use the $158,600,000 appropriated for FY 2002 social services as follows:

• $71,910,000 will be allocated under the three-year population formula, as set forth in this notice for the purpose of providing employment services and other needed services to refugees.

• $12,690,000 will be awarded as new and continuation social service discretionary grants under new and prior year competitive grant announcements issued separately from this notice.

• $19,000,000 will be awarded to serve communities most heavily affected by recent Cuban and Haitian entrant and refugee arrivals. These funds will be awarded through continuation awards under a separate prior year announcement.

• $26,000,000 will be awarded through discretionary grants for communities with large concentrations of refugees whose cultural differences make assimilation especially difficult justifying a more intense level and longer duration of Federal assistance. A combination of new and continuation awards will be made through new and prior year separate announcements.

• $14,000,000 will be awarded to address the needs of refugees and communities impacted by recent changes in Federal assistance programs relating to welfare reform. Awards will be made through a separate announcement.

• $15,000,000 will be awarded to increase educational support to schools with a significant proportion of refugee children, consistent with previous support to schools heavily impacted by large concentrations of refugees. New awards will be made through a separate announcement.

In addition, we are adding $11.5 million in prior year funds to the FY 2002 formula social services allocation as two set-aside allocations as follows: (1) $3 million for support for healthy families through community-based organizations, and (2) $8.5 million for planned upgrading of employment, employment retraining, and subsidized employment tied to a labor market need leading to unsubsidized employment, increasing the total amount available in FY 2002 through this announcement to $83,410,000.

Congress provided ORR with broad carry-over authority of FY 2000 refugee funds in a supplemental appropriations law (Emergency Supplemental Act, 2000, Pub.L. No. 106-246) as follows:

Funds appropriated under this heading [Refugee and Entrant Assistance] in the Departments of Labor, Health and Human Services, and Education, and Related Agencies Appropriations Act, 2000 (as enacted into law by section 1000(a)(4) of Public Law 106-113) for fiscal year 2000, pursuant to section 414(a) of the Immigration and Nationality Act, shall be available for the costs of assistance provided and other activities through September 30, 2002.

Refugee Social Service Funds

The population figures for the formula social services allocation include refugees, Cuban/Haitian entrants, and Amerasians from Vietnam. (A State must, however, have an approved State plan for the Cuban/Haitian Entrant Program or indicate in its refugee program State plan that Cuban/Haitian entrants will be served in order to use funds on behalf of entrants as well as refugees.)

The Director is allocating $71,910,000 to States on the basis of each State's proportion of the national population of refugees who had been in the United States three years or less as of October 1, 2001 (including a floor amount for States which have small refugee populations).

The use of the three-year population base in the allocation formula is required by section 412(c)(1)(B) of the Immigration and Nationality Act (INA) which states that the “funds available for a fiscal year for grants and contracts [for social services] . . . shall be allocated among the States based on the total number of refugees (including children and adults) who arrived in the United States not more than 36 months before the beginning of such fiscal year and who are actually residing in each State (taking into account secondary migration) as of the beginning of the fiscal year.”

As established in the FY 1991 social services notice published in the Federal Register of August 29, 1991, section I, “Allocation Amounts” (56 FR 42745), a variable floor amount for States which have small refugee populations is calculated as follows: If the application of the regular allocation formula yields less than $100,000, then —

(1) A base amount of $75,000 is provided for a State with a population of 50 or fewer refugees who have been in the U.S. 3 years or less; and

(2) for a State with more than 50 refugees who have been in the U.S. 3 years or less: (a) a floor has been calculated consisting of $50,000 plus the regular per capita allocation for refugees above 50 up to a total of $100,000 (in other words, the maximum under the floor formula is $100,000); (b) if this calculation has yielded less than $75,000, a base amount of $75,000 is provided for the State.

As mentioned in the previous section, the Director is also allocating an additional total of $11.5 million from prior year carry-over funds as two set-aside allocations, increasing the total amount available in FY 2002 through this announcement to $83,410,000.

Regarding the $3 million set-aside allocation, ORR is interested in supporting programs to promote healthy families. The refugee experience—fleeing one's homeland, leaving family and friends, sometimes living for an extended period of time in a camp setting in a country of first asylum, and adapting to life in a new country—places considerable stress on the family. Most refugee families are unfamiliar with the culture, language, roles, and responsibilities of individuals and families in the United States. Both parents may now be required to work in order to sustain the family economically and may have to work different shifts so that one parent is at home to care for the children. Communication becomes more difficult. As a result, refugee families also may encounter severe inter-generational strains. Children are caught between the demand of their traditional culture (presented by their parents and grandparents) and American culture (represented by schools, peers, and the media).

In order to maintain the well-being of the family, guidance and support may be needed to assist these families to know how to better deal with the changing circumstances and choices they face.

Through this set-aside, ORR is looking to support orientation, education, and counseling to help maintain healthy marriages, promote responsible fatherhood, and maintain the well-being of families. States should use the set-aside funds to support programs which focus on a range of subjects to promote family well-being, such as: increasing the recognition of the critical contributions that fathers make to children's development; parental roles in U.S. schools—increasing both parents', particularly fathers', participation in the children's education and in school activities; family literacy programs; family conflict resolution; child-nurturing techniques including positive ways to discipline children; dealing with anger and depression in the family; and substance abuse and other problems facing young adults and the family in the United States.

The organizations funded by the set-aside amount are expected to have ties to the ethnic communities they serve and to conduct outreach into the community to identify refugee families in need of services. The opportune time frame for providing these services to families, we believe, is within the first three years after a refugee family's arrival. We strongly encourage States to fund, to the extent possible, Mutual Assistance Associations (MAAs), ethnic community-based organizations, and indigenous faith-based organizations with refugee experience, to the extent possible, to provide family support, outreach, education, orientation, and counseling. ORR defines an MAA as an organization with the following qualifications: (a) The organization is legally incorporated as a nonprofit organization; and (b) not less than 51% of the composition of the Board of Directors or governing board of the mutual assistance association is comprised of refugees or former refugees, including both refugee men and women.

Regarding the $8.5 million set-aside, there continues to be a need to focus funding on planned employment upgrading of refugees. While early employment for refugees is being achieved in many areas across the country, refugees who continue in language and employment training programs, or access additional training several months after placement in employment, do so on a random or ad hoc basis with varying amounts of formal assistance from refugee services providers. During their first few years in the country, refugees often appear to be revolving through a series of entry level placements. To be self-sufficient, refugees need to be in a position to market their experience and skills to employers. Funding provided through this set-aside is to assist States to implement programs which tie early employment to planned job up-grading services, including vocational training, professional and skills recertification, assistance with courses leading to certification (for example, courses leading to State certification to teach, to work as a nurse or medical aide, to become a draftsman, or become certified in the information technology field).

States and employment services providers are strongly encouraged to work in partnership with the MAAs, ethnic or community-based organizations, including faith-based organizations, funded through the $3 million set-aside, if possible, and to encourage MAA partnerships with other non-profit organizations and funded social service providers.

For activities funded with the two set-aside allocations, the Director is utilizing his authority, pursuant to 45 CFR 400.300, to waive the five-year (60) month limitation on social services (400.152(b)). Refugees who have been in the United States longer than 60 months (five years), but have not attained U.S. citizenship, may receive social services funded by the set-aside allocations. There are limited exceptions to this citizenship rule for certain U.S. born minor children in refugee families (45 CFR 400.208) and certain Amerasians from Vietnam who are U.S. citizens (Pub. L. 100.461).

Population to be Served and Allowable Services

Eligibility for refugee social services includes persons who meet all requirements of 45 CFR 400.43 (as amended by 65 FR 15409 (March 22, 2000)). In addition, persons granted asylum are eligible for refugee benefits and services from the date that asylum was granted (See ORR State Letter No. 00-12, effective June 15, 2000). Victims of a severe form of trafficking who have received a certification or eligibility letter from ORR are eligible from the date on the certification letter (See ORR State letter No. 01-13, May 3, 2001).

Services to refugees must be provided in accordance with the rules of 45 CFR Part 400 Subpart I—Refugee Social Services. Although the allocation formula is based on the three-year refugee population, States may provide services to refugees who have been in the country up to 60 months (5 years), with the exception of referral and interpreter services and citizenship and naturalization preparation services for which there is no time limitation (45 CFR 400.152(b)). On December 5, 2001, however, the Director of ORR, using the authority in 45 CFR 400.300, issued a blanket waiver of the time-in-country limit for services (ORR State Letter 01-31). This waiver, in effect until September 30, 2002, was issued to assist States in providing services to refugees following the events of September 11, 2001 and the subsequent cessation of refugee arrivals during most of the first quarter, FY 2002. In addition, as discussed in a section above, the five-year limitation on services has been waived for refugees served with the two set-aside allocations in this announcement.

Allowable social services are those indicated in 45 CFR 400.154 and 400.155. Additional services not included in these sections which the State may wish to provide must be submitted to and approved by the Director of ORR (§ 400.155(h)).

Service Priorities

Priorities for provision of services are specified in 45 CFR 400.147. In order for refugees to move quickly off Temporary Assistance for Needy Families (TANF), States should, to the extent possible, ensure that all newly arriving refugees receive refugee-specific services designed to address the employment barriers that refugees typically face.

We encourage States to re-examine the range of services they currently offer to refugees. Those States that have had success in helping refugees achieve early employment may find it to be a good time to expand beyond provision of basic employment services and address the broader needs that refugees have in order to enhance their ability to maintain financial security and to successfully integrate into the community. Other States may need to reassess the delivery of employment services in light of local economic conditions and develop new strategies to better serve the currently arriving refugee groups.

States should also be aware that ORR will make social services formula funds available to pay for social services which are provided to refugees who participate in Wilson/Fish projects. Section 412(e)(7)(A) of the INA provides that:

The Secretary [of HHS] shall develop and implement alternative projects for refugees who have been in the United States less than thirty-six months, under which refugees are provided interim support, medical services, support [social] services, and case management, as needed, in a manner that encourages self-sufficiency, reduces welfare dependency, and fosters greater coordination among the resettlement agencies and service providers.

This provision is generally known as the Wilson/Fish Amendment. The Department has already issued a separate notice in the Federal Register with respect to applications for such projects (64 FR 19793 (April 22, 1999)).

II. Discussion of Comments Received

Four comments were received in response to the proposed notice published on April 9, 2002 (67 FR 17079-17082).

Comment: Two comments were received from individuals representing the same agency, who opposed the cut in funds allocated for Social Services in the proposed notice of allocations.

Response: The difference between the final formula amount for social services in FY 2001 and the amount in the FY 2002 proposed formula allocation was a little more than $17,000, not a relatively significant amount. The commenters were most likely concerned that the total funding allocated to the State was less in the proposed notice of FY 2002 allocations because a set-aside amount was not included. For the final notice of FY 2002 allocations, the Director has included $11.5 million in set-aside funds. While the formula amount has been approximately the same during the last three years, set-aside funds have been possible as a result of authority to spend prior year surplus funds and the availability of surplus funds.

Comment: One comment was received from a State Refugee Coordinator who opposed ORR's methodology for making adjustments to population estimates for persons granted asylum and victims of a severe form of trafficking. This commenter suggested that a State should be given credit for all eligible asylees and certified victims of a severe form of trafficking in their State, not just the eligible asylees and trafficking victims who had received services in the State during the past year. Citing the burden placed upon the State to respond within a short notice, the Coordinator believed that ORR was in the best position to have data on these populations. The commenter also noted that the potential exists for the unserved populations to apply for services in the near future and therefore a State should be given credit for all persons granted asylum and certified as victims of a severe form of trafficking, not just those who received services.

Response: In the Final Notice of Allocations to States of FY 2001 Funds for Refugee Social Services, $10 million in set-aside funding was provided for States to set up systems to identify, bring into services, and provide services to those asylees in need of services.

ORR strongly believes that it is important to have data which show the extent to which States have now established outreach systems to bring asylees into services and are now serving them. Unlike refugees, individuals granted asylum and certified victims of a severe form of trafficking do not have voluntary agency caseworkers assigned to them upon arrival. These caseworkers, funded through the U.S. Department of State's Reception and Placement Cooperative Agreement, are required to refer refugees into the network of refugee program and benefits.

Over the past 20 years, through regulations, funding, and monitoring of the refugee program, ORR has sought to ensure that newly arrived refugees are served through a network of refugee specific, bilingual and bicultural services. We are confident that there is the strongest possible link between the number of refugees arriving in a state and the number of refugees receiving services in that State. This is not true, however, for persons granted asylum. We do not know the extent to which asylees need services, the extent to which they are able to access services and assistance, and the extent to which their needs mirror the needs of newly arriving refugees. Many asylees have been in the United States for more than one year before they receive a grant of asylum. It may be that they are already integrated into communities and are not in need of transitional assistance and services. Likewise, we do not have data supporting an assumption that the address provided on the asylum application directly corresponds to the location where asylees choose to reside after asylum is granted. For these reasons, it makes greater sense to adjust the allocations to States based upon the number of asylees who were granted asylum during the past three years and who have actually been served in the State refugee program.

While we concur that ORR knows the number of victims of a severe form of trafficking who have been certified, Section 107(b)(1)(D) (“Annual Report”) of the Trafficking Victims Protection Act of 2000 (Pub.L. 106-386) requires that HHS report information annually on the number of victims who received benefits or other services.

Comment: One commenter noted that the proposed announcement did not extend the Director's waiver of the 60-month time-in-country limit for services that was issued by the Director on December 5, 2001. The State encouraged the Director to continue the waiver through 2003. This commenter noted the downturn in the service industry and other sectors in the State in which refugees and entrants tend to work. The commenter also expressed concern about the effect on newly enrolled social services clients (presumably those in the country for more than 60 months) when services were stopped at the expiration of the waiver (September 30, 2002).

Response: For the formula allocation, the Director has decided not to extend a blanket waiver at this time. However, pursuant to 45 CFR 400.300, States may submit individual waiver requests for requirements in part 400, and the Director may issue a waiver if it is determined that the waiver will advance the purposes of the regulations and is consistent with Federal refugee policy objectives.

States may allow clients who have been in the country for more than 60 months and who were enrolled in a social services funded component before October 1, 2002 and who have not yet completed that component to remain in that component until completion.

As noted in an earlier section of this announcement, the Director has waived the five-year limitation on services to clients served with the two set-aside allocations in this announcement.

III. Allocation Formulas

Of the funds available for FY 2002 for social services, $71,910,000 is to be allocated to States in accordance with the formula specified in A. below.

A. A State's allowable formula allocation is calculated as follows:

1. The total amount of funds determined by the Director to be available for this purpose; divided by—

2. The total number of refugees, Cuban/Haitian entrants, and Amerasians from Vietnam, who arrived in the United States not more than three years prior to the beginning of the fiscal year for which the funds are appropriated, as shown by the ORR Refugee Data System; and

3. The total number of asylees and certified victims of a severe form of trafficking who were served by the State in the prior year, as identified by the State. Certified victims of a severe form of trafficking include minors who have been provided eligibility letters by ORR. These individuals must have been granted asylum or certified no more than three years prior to the beginning of the fiscal year for which the funds are appropriated, as identified by States.

The resulting per capita amount is multiplied by—

4. The number of persons in items 2 and 3, above, in the State as of October 1, 2001, adjusted for secondary migration.

The calculation above yields the formula allocation for each State. Minimum allocations for small States are taken into account.

B. A State's allowable two set-aside allocations are calculated as follows:

1. The total amount of funds determined by the Director to be available for this purpose; divided by—

2. The total number of refugees, Cuban/Haitian entrants, and Amerasians from Vietnam who arrived in the United States not more than three years prior to the beginning of the fiscal year for which the funds are appropriated, as shows by the ORR Refugee Data System; and

3. The total number of asylees and certified victims of a severe form of trafficking served by the State in the prior year, as identified by the State. “Certified” victims of a severe form of trafficking include minors who have been provided eligibility letters by ORR. These individuals must have been granted asylum or certified no more than three years prior to the beginning of the fiscal year for which the funds are appropriated, as identified by States.

The resulting per capita amount is multiplied by—

4. The number of persons in items 2 and 3 above, in the State as of October 1, 2001, adjusted for secondary migration.

The calculation above yields the basis for the set-aside allocations for each State. A minimum allocation of $5,000 was provided to States that would have received less than this amount based upon the formula.

IV. Basis of Population Estimates

The population estimates for the allocation of funds in FY 2002 for the formula social service allocation are based on data on refugee arrivals from the ORR Refugee Data System, adjusted as of October 1, 2001, for secondary migration. The data base includes refugees of all nationalities, Amerasians from Vietnam, Cuban and Haitian entrants.

For fiscal year 2002, ORR's formula social service allocations for the States are based on the numbers of refugees, Amerasians, and entrants in the ORR data base. The numbers are based upon the arrivals during the preceding three fiscal years: 1999, 2000, and 2001.

The estimates of secondary migration are based on data submitted by all participating States on Form ORR-11 on secondary migrants who have resided in the United States for 36 months or less, as of September 30, 2001. The total migration reported by each State is summed, yielding in- and out-migration figures and a net migration figure for each State. The net migration figure is applied to the State's total arrival figure, resulting in a revised population estimate.

Estimates are developed separately for refugees and entrants and then combined into a total estimated three-year refugee/entrant population for each State. Eligible Amerasians are included in the refugee figures. Havana parolees (HP's) are enumerated in a separate column in Table 1, below, because they are tabulated separately from other entrants. Havana parolee arrivals for all States are based on actual data.

Table 1, below, shows the estimated three-year populations, as of October 1, 2001, of refugees (col. 1), entrants (col. 2), Havana parolees (col. 3); asylees and certified victims of a severe form of trafficking (col. 4); total population, (col.5); the final formula amounts which the population estimates yield, (col. 6); the final allocation amount (col 7); the first set-aside allocation amount (col. 8); the second set-aside allocation (col. 9); and the total allocation (col. 10).

V. Allocation Amounts

Funding subsequent to the publication of this notice will be contingent upon the submittal and approval of a State annual services plan that is developed on the basis of a local consultative process, as required by 45 CFR 400.11(b)(2) in the ORR regulations.

The following amounts are for allocation for refugee social services in FY 2002:

FY 2002 SOCIAL SERVICES FORMULA NOTICE

Table 1.—Estimated Three-Year Refugee/Entrant/Asylee/Parolee Populations of States Participating in the Refugee Program and Final Social Service Formula Amount and Allocation for FY 2002
State | Refugees ¹ | Entrants | Havana parolees ² | Asylees ³ | Total population | Final formula amount | Final allocation | $3 million Set-asides | $8.5 million Set-asides | Total final allocation
| 1 | 2 | 3 | 4 | 5 | 6 | 7 | 8 | 9 | 10
Alabama | 381 | 5 | 35 |  | 421 | $102,381 | $102,381 | $5,000 | $12,148 | $119,529
Alaska ⁴ | 115 | 0 | 0 | 7 | 122 | 29,669 | 75,000 | 5,000 | 5,000 | 85,000
Arizona | 7,092 | 405 | 2 |  | 7,499 | 1,823,651 | 1,823,651 | 75,677 | 216,377 | 2,115,705
Arkansas | 39 | 9 | 4 |  | 52 | 12,646 | 75,000 | 5,000 | 5,000 | 85,000
California ⁴ | 28,779 | 74 | 238 | 1,549 | 30,640 | 7,451,218 | 7,451,218 | 309,208 | 884,091 | 8,644,517
Colorado ⁴ | 3,247 | 4 | 4 | 5 | 3,260 | 792,786 | 792,786 | 32,899 | 94,065 | 919,750
Connecticut | 3,511 | 30 | 34 |  | 3,575 | 869,390 | 869,390 | 36,078 | 103,154 | 1,008,622
Delaware | 128 | 15 | 0 |  | 143 | 34,776 | 75,000 | 5,000 | 5,000 | 85,000
Dist. of Columbia | 348 | 4 | 8 | 317 | 677 | 164,637 | 164,637 | 6,832 | 19,534 | 191,003
Florida | 13,293 | 15,253 | 32,735 | 4,447 | 65,728 | 15,984,126 | 15,984,126 | 663,303 | 1,896,525 | 8,543,954
Georgia | 10,059 | 35 | 110 | 385 | 10,589 | 2,575,096 | 2,575,096 | 106,860 | 305,537 | 2,987,493
Hawaii | (7) | 0 | 0 | 42 | 35 | 8,512 | 75,000 | 5,000 | 5,000 | 85,000
Idaho ⁴ | 2,742 | 1 | 3 |  | 2,746 | 667,789 | 667,789 | 27,712 | 79,233 | 774,734
Illinois | 9,323 | 15 | 102 |  | 9,440 | 2,295,675 | 2,295,675 | 95,265 | 272,383 | 2,663,323
Indiana | 1,656 | 6 | 11 |  | 1,673 | 406,850 | 406,850 | 16,883 | 48,273 | 472,006
Iowa | 4,619 | 0 | 2 |  | 4,621 | 1,123,762 | 1,123,762 | 46,633 | 133,335 | 1,303,730
Kansas | 600 | 5 | 4 | 1 | 610 | 148,343 | 148,343 | 6,156 | 17,601 | 172,100
Kentucky ⁴ | 3,358 | 1,088 | 8 |  | 4,454 | 1,083,150 | 1,083,150 | 44,948 | 128,516 | 1,256,614
Louisiana | 1,161 | 127 | 44 |  | 1,332 | 323,924 | 323,924 | 13,442 | 38,434 | 375,800
Maine | 1,108 | 0 | 0 |  | 1,108 | 269,450 | 269,450 | 11,182 | 31,970 | 312,602
Maryland | 3,670 | 12 | 20 | 489 | 4,191 | 1,019,192 | 1,019,192 | 42,294 | 120,928 | 1,182,414
Massachusetts ⁴ | 5,814 | 160 | 38 | 629 | 6,641 | 1,614,998 | 1,614,998 | 67,019 | 191,620 | 1,873,637
Michigan | 8,186 | 863 | 31 | 62 | 9,142 | 2,223,206 | 2,223,206 | 92,258 | 263,785 | 2,579,249
Minnesota | 13,503 | 6 | 8 | 3 | 13,520 | 3,287,874 | 3,287,874 | 136,439 | 390,108 | 3,814,421
Mississippi | 0 | 3 | 6 | 2 | 11 | 2,675 | 75,000 | 5,000 | 5,000 | 85,000
Missouri | 7,729 | 12 | 24 |  | 7,765 | 1,888,339 | 1,888,339 | 78,362 | 224,052 | 2,190,753
Montana | 1 | 0 | 4 |  | 5 | 1,216 | 75,000 | 5,000 | 5,000 | 85,000
Nebraska | 1,736 | 2 | 5 |  | 1,743 | 423,873 | 423,873 | 17,590 | 50,293 | 491,756
Nevada ⁴ | 1,152 | 752 | 53 | 59 | 2,016 | 490,263 | 490,263 | 20,345 | 58,170 | 568,778
New Hampshire | 1,710 | 0 | 0 |  | 1,710 | 415,848 | 415,848 | 17,257 | 49,341 | 482,446
New Jersey | 4,364 | 353 | 758 | 4 | 5,479 | 1,332,416 | 1,332,416 | 55,292 | 158,092 | 1,545,800
New Mexico | 493 | 321 | 2 |  | 816 | 198,440 | 198,440 | 8,235 | 23,545 | 230,220
New York | 21,133 | 1,149 | 195 | 468 | 22,945 | 5,579,902 | 5,579,902 | 231,553 | 662,058 | 6,473,513
North Carolina | 3,363 | 21 | 47 | 1 | 3,432 | 834,614 | 834,614 | 34,634 | 99,027 | 968,275
North Dakota ⁴ | 1,237 | 0 | 0 |  | 1,237 | 300,821 | 300,821 | 12,483 | 35,693 | 348,997
Ohio | 6,336 | 6 | 8 |  | 6,350 | 1,544,231 | 1,544,231 | 64,082 | 183,224 | 1,791,537
Oklahoma | 393 | 0 | 5 |  | 398 | 96,788 | 100,000 | 5,000 | 11,484 | 116,484
Oregon | 3,753 | 489 | 4 |  | 4,246 | 1,032,568 | 1,032,568 | 42,849 | 122,515 | 1,197,932
Pennsylvania | 7,869 | 241 | 47 | 24 | 8,181 | 1,989,504 | 1,989,504 | 82,560 | 236,056 | 2,308,120
Rhode Island | 774 | 2 | 7 | 10 | 793 | 192,846 | 192,846 | 8,003 | 22,881 | 223,730
South Carolina | 211 | 1 | 20 |  | 232 | 56,419 | 94,260 | 5,000 | 6,694 | 105,954
South Dakota ⁴ | 1,277 | 0 | 0 |  | 1,277 | 310,548 | 310,548 | 12,887 | 36,847 | 360,282
Tennessee | 2,891 | 8 | 38 |  | 2,937 | 714,237 | 714,237 | 29,639 | 84,745 | 828,621
Texas | 11,928 | 854 | 115 | 245 | 13,142 | 3,195,950 | 3,195,950 | 132,624 | 379,201 | 3,707,775
Utah | 2,943 | 2 | 2 |  | 2,947 | 716,669 | 716,669 | 29,740 | 85,033 | 831,442
Vermont | 876 | 0 | 0 |  | 876 | 213,031 | 213,031 | 8,840 | 25,276 | 247,147
Virginia | 5,179 | 92 | 29 | 305 | 5,605 | 1,363,057 | 1,363,057 | 56,564 | 161,728 | 1,581,349
Washington | 15,318 | 0 | 14 | 7 | 15,339 | 3,730,229 | 3,730,229 | 154,796 | 442,594 | 4,327,619
West Virginia | 17 | 0 | 0 |  | 17 | 4,134 | 75,000 | 5,000 | 5,000 | 85,000
Wisconsin | 2,030 | 5 | 4 |  | 2,039 | 495,856 | 495,856 | 20,577 | 58,834 | 575,267
Wyoming ⁵ |  |  |  |  |  |  |  |  |  |
Total | 227,438 | 22,430 | 34,828 | 9,061 | 293,757 | 71,437,575 | 71,910,000 | 3,000,000 | 8,500,000 | 83,410,000
¹ Includes Amerasian immigrants. Adjusted for secondary migration.
² For all years, Havana Parolee arrivals for all States are based on actual data.
³ Includes victims of a severe form of trafficking.
⁴ The allocations for Alaska, Colorado, Idaho, Kentucky, Massachusetts, Nevada, North Dakota, South Dakota and for San Diego County, California are expected to be awarded to Wilson/Fish projects.
⁵ Wyoming no longer participates in the Refugee Resettlement Program.

VI. Paperwork Reduction Act

This notice does not create any reporting or recordkeeping requirements requiring OMB clearance.

(Catalog of Federal Domestic Assistance No. 93.566 Refugee Assistance—State Administered Programs)
Dated: July 1, 2002.
Nguyen Van Hanh,
Director, Office of Refugee Resettlement.

[FR Doc. 02-17027 Filed 7-5-02; 8:45 am]

BILLING CODE 4184-01-P